DEPARTMENT OF HEALTH AND HUMAN SERVICES

Centers for Disease Control and Prevention

[30Day-06-0423X]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 371-5960 or send an e-mail to omb@cdc.gov. Send written comments to CDC Desk Officer, Office of Management and Budget, Washington, DC or by fax to (202) 395-6974. Written comments should be received within 30 days of this notice.

Proposed Project

The National Electronic Disease Surveillance System (NEDSS)—New—National Center for Public Health Informatics (NCPHI), Centers for Disease Control and Prevention (CDC).

Background and Brief Description

CDC is responsible for the collection and dissemination of nationally notifiable diseases information and for monitoring and reporting the impact of epidemic influenza on mortality, Public Health Services Act (42 U.S.C. 241). Since April 1984, CDC Epidemiology Program Office (EPO) has been working with the Council of State and Territorial Epidemiologists (CSTE) to demonstrate the efficiency and effectiveness of computer transmission of surveillance data between CDC and the state health departments.

By 1989, all 50 states were using this computerized disease surveillance system, which was then renamed the National Electronic Telecommunications System for Surveillance (NETSS) to reflect its national scope (OMB numbers 0920-0447 and 0920-0007).

Beginning in 1999, CDC, Epidemiology Program Office (EPO) worked with CSTE, state and local public health system staff, and other CDC disease prevention and control program staff to identify information categories and information technology standards to support integrated disease surveillance. That effort is now focused on development and completion of the National Electronic Disease Surveillance System (NEDSS), coordinated by CDC's National Center for Public Health Informatics, Division of Integrated Surveillance Systems and Services (DISSS).

States will continue to use portions of NETSS to transmit data to CDC. One of the reasons for providing NETSS to NEDSS data mapping is to identify what data elements in NETSS correspond to data elements in NEDSS. Those elements mapped from NETSS to NEDSS were collected in OMB number 0920-0007.

NEDSS will electronically integrate and link together a wide variety of surveillance activities and will facilitate more accurate and timely reporting of disease information to CDC and state and local health departments. Consistent with recommendations supported by our state and local surveillance partners and described in the 1995 report, Integrating Public Health Information and Surveillance Systems, NEDSS will include data standards, an internet based communications infrastructure built on industry standards, and policy-level agreements on data access, sharing, burden reduction, and protection of confidentiality.

To support NEDSS, CDC is developing an information system, the NEDSS Base System, which will use NEDSS technical and information standards (http://www.cdc.gov/nedss/BaseSystem/NEDSSBaseSysDescription.pdf). Currently 11 states participate in NEDSS. It is expected that 4 additional states will be added by the end of the first year after OMB approval. Thereafter, it is estimated that 5 states will be added in years 2 and 3, depending on funding.

CDC is requesting a three-year OMB clearance of collecting the NEDSS data that is not currently covered by existing clearances. There are no costs to respondents other than their time. The average total annualized burden for the Weekly Morbidity Reports and the Annual Summary Report is 660 hours.

Annualized Weekly Morbidity Report Respondent Burden
Type of respondent | Number of respondents | Number of responses per respondents | Average burden per response (in hours)
States | 20 | 52 | 30/60

Annualized Annual Summary Report Respondent Burden
Type of respondent | Number of respondents | Number of responses per respondents | Average burden per response (in hours)
States | 20 | 1 | 7

Dated: April 28, 2006.
Joan F. Karr,
Acting Reports Clearance Officer, Centers for Disease Control and Prevention.

[FR Doc. E6-7077 Filed 5-9-06; 8:45 am]

BILLING CODE 4163-18-P